DEPARTMENT OF TRANSPORTATION

Federal Aviation Administration

14 CFR Part 97

[Docket No. 31009; Amdt. No. 3636]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective April 13, 2015. The compliance date for each SIAP, associated Takeoff Minimums, and ODP is specified in the amendatory provisions.

The incorporation by reference of certain publications listed in the regulations is approved by the Director of the Federal Register as of April 13, 2015.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, Navigation (Air).

Issued in Washington, DC, on March 13, 2015.
John Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
30-Apr-15 | PA | Doylestown | Doylestown | 5/1883 | 03/02/15 | RNAV (GPS) RWY 23, Amdt 1.
30-Apr-15 | PA | Doylestown | Doylestown | 5/1884 | 03/02/15 | RNAV (GPS) RWY 5, Orig.
30-Apr-15 | WI | Lone Rock | Tri-County Rgnl | 5/2415 | 02/27/15 | VOR A, Amdt 7.
30-Apr-15 | WI | Lone Rock | Tri-County Rgnl | 5/2416 | 02/27/15 | RNAV (GPS) RWY 9, Orig.
30-Apr-15 | WI | Lone Rock | Tri-County Rgnl | 5/2417 | 02/27/15 | LOC RWY 27, Orig.
30-Apr-15 | FL | Tampa | Tampa Intl | 5/3591 | 02/27/15 | RNAV (GPS) Z RWY 19L, Amdt 2C.
30-Apr-15 | FL | Tampa | Tampa Intl | 5/3592 | 02/27/15 | RNAV (RNP) Y RWY 19L, Amdt 1D.
30-Apr-15 | FL | Tampa | Tampa Intl | 5/3593 | 02/27/15 | RNAV (GPS) RWY 28, Amdt 1A.
30-Apr-15 | MO | Columbia | Columbia Rgnl | 5/3800 | 02/27/15 | ILS OR LOC/DME RWY 2, Amdt 15.
30-Apr-15 | WI | Lone Rock | Tri-County Rgnl | 5/5432 | 02/27/15 | RNAV (GPS) RWY 27, Orig.
30-Apr-15 | TX | Dallas | Dallas Love Field | 5/5494 | 02/27/15 | RNAV (GPS) Z RWY 13R, Amdt 1.
30-Apr-15 | TX | Dallas | Dallas Love Field | 5/5495 | 02/27/15 | RNAV (GPS) Y RWY 31L, Amdt 1B.
30-Apr-15 | TN | Clarksville | Outlaw Field | 5/5846 | 02/27/15 | LOC RWY 35, Amdt 5G.
30-Apr-15 | TN | Clarksville | Outlaw Field | 5/5847 | 02/27/15 | RNAV (GPS) RWY 17, Orig-A.
30-Apr-15 | TN | Clarksville | Outlaw Field | 5/5848 | 02/27/15 | RNAV (GPS) RWY 35, Orig-A.
30-Apr-15 | TN | Clarksville | Outlaw Field | 5/5849 | 02/27/15 | VOR RWY 35, Amdt 15F.
30-Apr-15 | KY | Jackson | Julian Carroll | 5/5917 | 02/27/15 | RNAV (GPS) RWY 1, Orig-A.
30-Apr-15 | KY | Jackson | Julian Carroll | 5/5918 | 02/27/15 | VOR/DME RWY 1, Amdt 2.
30-Apr-15 | NJ | Mount Holly | South Jersey Rgnl | 5/5999 | 02/27/15 | RNAV (GPS) RWY 26, Amdt 1A.
30-Apr-15 | NJ | Mount Holly | South Jersey Rgnl | 5/6004 | 02/27/15 | RNAV (GPS) RWY 8, Orig-A.
30-Apr-15 | NJ | Mount Holly | South Jersey Rgnl | 5/6005 | 02/27/15 | VOR RWY 26, Amdt 3.
30-Apr-15 | MI | Frankfort | Frankfort Dow Memorial Field | 5/6376 | 02/27/15 | RNAV (GPS) RWY 15, Amdt 1.
30-Apr-15 | MI | Frankfort | Frankfort Dow Memorial Field | 5/6377 | 02/27/15 | RNAV (GPS) RWY 33, Amdt 1.
30-Apr-15 | MI | Frankfort | Frankfort Dow Memorial Field | 5/6378 | 02/27/15 | VOR/DME A, Amdt 1.
30-Apr-15 | FL | Jacksonville | Jacksonville Intl | 5/6411 | 03/04/15 | RNAV (RNP) Y RWY 14, Orig-A.
30-Apr-15 | FL | Jacksonville | Jacksonville Intl | 5/6412 | 03/04/15 | RNAV (RNP) Y RWY 8, Orig-A.
30-Apr-15 | NY | Hamilton | Hamilton Muni | 5/6691 | 03/02/15 | RNAV (GPS) Y RWY 17, Orig.
30-Apr-15 | NY | Hamilton | Hamilton Muni | 5/6692 | 03/02/15 | RNAV (GPS) Z RWY 17, Orig.
30-Apr-15 | NY | Hamilton | Hamilton Muni | 5/6693 | 03/02/15 | VOR-A, Amdt 4.
30-Apr-15 | NY | Hamilton | Hamilton Muni | 5/6694 | 03/02/15 | RNAV (GPS) RWY 35, Orig-A.
30-Apr-15 | MI | Alma | Gratiot Community | 5/6701 | 02/27/15 | VOR/DME RWY 18, Amdt 1.
4/30/2015 | OH | Ashtabula | Northeast Ohio Rgnl | 5/6702 | 02/27/15 | VOR/DME RWY 27, Amdt 6C.
30-Apr-15 | OH | Ashtabula | Northeast Ohio Rgnl | 5/6703 | 02/27/15 | VOR RWY 9, Orig-C.
30-Apr-15 | OH | Ashtabula | Northeast Ohio Rgnl | 5/6704 | 02/27/15 | RNAV (GPS) RWY 9, Orig-B.
30-Apr-15 | OH | Ashtabula | Northeast Ohio Rgnl | 5/6705 | 02/27/05 | RNAV (GPS) RWY 27, Orig-B.
30-Apr-15 | MI | Alma | Gratiot Community | 5/6709 | 02/27/15 | RNAV (GPS) RWY 9, Amdt 1.
30-Apr-15 | AR | Fayetteville | Drake Field | 5/6847 | 02/27/15 | RNAV (GPS) RWY 34, Amdt 1A.
30-Apr-15 | IN | Fort Wayne | Fort Wayne Intl | 5/7035 | 02/27/15 | ILS OR LOC RWY 32, Amdt 30.
30-Apr-15 | IN | Fort Wayne | Fort Wayne Intl | 5/7036 | 02/27/15 | LOC BC RWY 14, Amdt 15A.
30-Apr-15 | IN | Logansport | Logansport/Cass County | 5/7038 | 02/27/15 | RNAV (GPS) RWY 9, Amdt 1.
30-Apr-15 | WI | Friendship (Adams) | Adams County Legion Field | 5/7707 | 02/27/15 | RNAV (GPS) RWY 33, Orig.
30-Apr-15 | IA | Mount Pleasant | Mount Pleasant Muni | 5/7708 | 02/27/15 | RNAV (GPS) RWY 15, Orig.
30-Apr-15 | IA | Mount Pleasant | Mount Pleasant Muni | 5/7709 | 02/27/15 | RNAV (GPS) RWY 33, Orig.
30-Apr-15 | IA | Mount Pleasant | Mount Pleasant Muni | 5/7710 | 02/27/15 | NDB RWY 33, Amdt 6.
30-Apr-15 | TX | Houston | George Bush Intercontinental/Houston | 5/7714 | 02/27/15 | RNAV (RNP) Y RWY 27, Amdt 1A.
30-Apr-15 | TX | Houston | George Bush Intercontinental/Houston | 5/7716 | 02/27/15 | GLS RWY 27, Amdt 1.
30-Apr-15 | TX | Houston | George Bush Intercontinental/Houston | 5/7717 | 02/27/15 | ILS OR LOC RWY 27, ILS RWY 27 (SA CAT I), ILS RWY 27 (CAT II & III), Amdt 10A.
30-Apr-15 | TX | Houston | George Bush Intercontinental/Houston | 5/7718 | 02/27/15 | RNAV (GPS) Z RWY 26R, Amdt 4.
30-Apr-15 | TX | Houston | George Bush Intercontinental/Houston | 5/7719 | 02/27/15 | GLS RWY 26R, Amdt 1.
30-Apr-15 | TX | Houston | George Bush Intercontinental/Houston | 5/7720 | 02/27/15 | ILS OR LOC RWY 26R, ILS RWY 26R (SA CAT I), ILS RWY 26R (CAT II & III), Amdt 4.
30-Apr-15 | TX | Houston | George Bush Intercontinental/Houston | 5/7721 | 02/27/15 | GLS RWY 8L, Amdt 1.
30-Apr-15 | IL | Marion | Williamson County Rgnl | 5/7723 | 03/04/15 | VOR RWY 2, Amdt 13C.
30-Apr-15 | IL | Macomb | Macomb Muni | 5/7726 | 03/04/15 | LOC RWY 27, Amdt 3.
30-Apr-15 | IL | Macomb | Macomb Muni | 5/7727 | 03/04/15 | RNAV (GPS) RWY 27, Amdt 1.
30-Apr-15 | MI | Manistee | Manistee Co-Blacker | 5/7728 | 02/27/15 | RNAV (GPS) RWY 28, Orig-A.
30-Apr-15 | MI | Manistee | Manistee Co-Blacker | 5/7729 | 02/27/15 | ILS OR LOC RWY 28, Amdt 1A.
30-Apr-15 | MI | Manistee | Manistee Co-Blacker | 5/7730 | 02/27/15 | VOR RWY 28, Amdt 1A.
30-Apr-15 | MI | Manistee | Manistee Co-Blacker | 5/7731 | 02/27/15 | RNAV (GPS) RWY 10, Orig-A.
30-Apr-15 | MI | Manistee | Manistee Co-Blacker | 5/7732 | 02/27/15 | VOR RWY 10, Amdt 1A.
30-Apr-15 | KY | Falmouth | Gene Snyder | 5/8172 | 03/02/15 | RNAV (GPS) RWY 21, Orig-A.
30-Apr-15 | KY | Falmouth | Gene Snyder | 5/8173 | 03/02/15 | VOR-A, Amdt 3.
30-Apr-15 | GA | Atlanta | Dekalb-Peachtree | 5/8180 | 03/02/15 | ILS OR LOC RWY 21L, Amdt 8A.
30-Apr-15 | GA | Atlanta | Dekalb-Peachtree | 5/8181 | 03/02/15 | RNAV (RNP) RWY 3R, Amdt 2.
30-Apr-15 | GA | Atlanta | Dekalb-Peachtree | 5/8182 | 03/02/15 | RNAV (RNP) Z RWY 21L, Amdt 1.
30-Apr-15 | GA | Atlanta | Dekalb-Peachtree | 5/8183 | 03/02/15 | RNAV (GPS) Y RWY 21L, Amdt 1.
30-Apr-15 | GA | Atlanta | Dekalb-Peachtree | 5/8184 | 03/02/15 | VOR/DME RWY 21L, Amdt 2A.
30-Apr-15 | GA | Atlanta | Dekalb-Peachtree | 5/8185 | 03/02/15 | VOR/DME-D, Amdt 1.
30-Apr-15 | TN | Winchester | Winchester Muni | 5/8190 | 03/02/15 | NDB RWY 18, Amdt 6.
30-Apr-15 | TN | Winchester | Winchester Muni | 5/8191 | 03/02/15 | RNAV (GPS) RWY 36, Orig.
30-Apr-15 | TN | Winchester | Winchester Muni | 5/8192 | 03/02/15 | RNAV (GPS) Z RWY 18, Orig.
30-Apr-15 | TN | Winchester | Winchester Muni | 5/8193 | 03/02/15 | RNAV (GPS) Y RWY 18, Orig.
30-Apr-15 | ME | Millinocket | Millinocket Muni | 5/8194 | 02/27/15 | RNAV (GPS) RWY 29, Amdt 1A.
30-Apr-15 | ME | Millinocket | Millinocket Muni | 5/8195 | 03/02/15 | VOR RWY 29, Orig-A.
30-Apr-15 | CO | Denver | Denver Intl | 5/8357 | 03/02/15 | RNAV (RNP) Z RWY 34R, Orig-A.
30-Apr-15 | CO | Denver | Denver Intl | 5/8358 | 03/02/15 | RNAV (RNP) Z RWY 35R, Orig-A.
30-Apr-15 | CO | Denver | Denver Intl | 5/8359 | 03/02/15 | RNAV (RNP) Z RWY 16L, Orig-A.
30-Apr-15 | CO | Denver | Denver Intl | 5/8360 | 03/02/15 | RNAV (RNP) Z RWY 16R, Orig-A.
30-Apr-15 | CO | Denver | Denver Intl | 5/8361 | 03/02/15 | RNAV (RNP) Z RWY 17R, Orig-A.
30-Apr-15 | CO | Denver | Denver Intl | 5/8362 | 03/02/15 | RNAV (RNP) Z RWY 35L, Orig-A.
30-Apr-15 | CO | Denver | Denver Intl | 5/8363 | 03/02/15 | RNAV (RNP) Z RWY 17L, Orig-A.
30-Apr-15 | CO | Denver | Denver Intl | 5/8364 | 03/02/15 | RNAV (RNP) Z RWY 34L, Orig-A.
30-Apr-15 | IL | Savanna | Tri-Township | 5/9649 | 03/04/15 | RNAV (GPS) RWY 13, Orig-A.
30-Apr-15 | IL | Decatur | Decatur | 5/9650 | 03/04/15 | RNAV (GPS) RWY 12, Orig.
30-Apr-15 | IL | Decatur | Decatur | 5/9651 | 03/04/15 | RNAV (GPS) RWY 30, Amdt 1.

[FR Doc. 2015-08103 Filed 4-10-15; 8:45 am]

BILLING CODE 4910-13-P